DEPARTMENT OF TRANSPORTATION

Federal Aviation Administration

14 CFR Part 39

[Docket No. FAA-2023-2145; Project Identifier MCAI-2023-00358-T; Amendment 39-22660; AD 2024-01-09]

RIN 2120-AA64

Airworthiness Directives; Bombardier, Inc., Airplanes

AGENCY: Federal Aviation Administration (FAA), DOT.

ACTION: Final rule.

SUMMARY: The FAA is adopting a new airworthiness directive (AD) for all Bombardier, Inc., Model BD-100-1A10 airplanes. This AD was prompted by a report of a steering control unit (SCU) filter plate connector that does not meet the certification requirements for exposure of electronic components to high intensity radiated field environments, which could result in malfunction of the nose wheel steering (NWS) system. This AD requires determining if the SCU is an affected SCU, replacing all affected SCUs, and rigging and testing the NWS control. This AD also prohibits installing an affected SCU on any airplane. The FAA is issuing this AD to address the unsafe condition on these products.

DATES: This AD is effective March 21, 2024.

The Director of the Federal Register approved the incorporation by reference of certain publications listed in this AD as of March 21, 2024.

ADDRESSES:

AD Docket: You may examine the AD docket at regulations.gov under Docket No. FAA-2023-2145; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For service information identified in this final rule, contact Bombardier Business Aircraft Customer Response Center, 400 Côte-Vertu Road West, Dorval, Québec H4S 1Y9, Canada; telephone 514-855-2999; email ac.yul@aero.bombardier.com; website bombardier.com.

• You may view this service information at the FAA, Airworthiness Products Section, Operational Safety Branch, 2200 South 216th St., Des Moines, WA. For information on the availability of this material at the FAA, call 206-231-3195. It is also available at regulations.gov under Docket No. FAA-2023-2145.

FOR FURTHER INFORMATION CONTACT: William Reisenauer, Aviation Safety Engineer, FAA, 1600 Stewart Avenue, Suite 410, Westbury, NY 11590; telephone 516-228-7301; email 9-avs-nyaco-cos@faa.gov.

SUPPLEMENTARY INFORMATION:

Background

The FAA issued a notice of proposed rulemaking (NPRM) to amend 14 CFR part 39 by adding an AD that would apply to all Bombardier, Inc., Model BD-100-1A10 airplanes. The NPRM published in the Federal Register on November 13, 2023 (88 FR 77538). The NPRM was prompted by AD CF-2023-13, dated February 24, 2023, issued by Transport Canada, which is the aviation authority for Canada (referred to after this as the MCAI). The MCAI states that the manufacturer of SCU part number (P/N) 46000-01 introduced a new filter plate connector that does not meet the certification requirements related to the susceptibility of electronic components to high intensity radiated field. According to the MCAI, this non-compliant filter plate connector, if not replaced, could result in a malfunction of the NWS system and cause un-commanded steering or lateral excursion from the runway.

In the NPRM, the FAA proposed to require determining if the SCU is an affected SCU, replacing all affected SCUs, and rigging and testing the NWS control. In the NPRM, the FAA also proposed to prohibit installing an affected SCU on any airplane. The FAA is issuing this AD to address the unsafe condition on these products.

You may examine the MCAI in the AD docket at regulations.gov under Docket No. FAA-2023-2145.

Discussion of Final Airworthiness Directive

Comments

The FAA received no comments on the NPRM or on the determination of the cost to the public.

Conclusion

This product has been approved by the aviation authority of another country and is approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on this product. Except for minor editorial changes, this AD is adopted as proposed in the NPRM. None of the changes will increase the economic burden on any operator.

Related Service Information Under 1 CFR Part 51

The FAA reviewed Bombardier Service Bulletin 100-32-34, dated October 18, 2021, and Bombardier Service Bulletin 350-32-010, dated October 18, 2021. This service information specifies procedures for determining the serial number of SCU P/N 46000-01, replacing any affected SCU, and rigging and testing the NWS control. These documents are distinct since they apply to different airplane serial numbers. This service information is reasonably available because the interested parties have access to it through their normal course of business or by the means identified in the ADDRESSES section.

Costs of Compliance

The FAA estimates that this AD affects 725 airplanes of U.S. registry. The FAA estimates the following costs to comply with this AD:

Estimated Costs for Required Actions
Labor cost | Parts cost | Cost per product | Cost on U.S. operators
9 work-hours × $85 per hour = $765 | $44,950 | $45,715 | $33,143,375

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-01-09 Bombardier, Inc.: Amendment 39-22660; Docket No. FAA-2023-2145; Project Identifier MCAI-2023-00358-T.

(a) Effective Date

This airworthiness directive (AD) is effective March 21, 2024.

(b) Affected ADs

None.

(c) Applicability

This AD applies to all Bombardier, Inc., Model BD-100-1A10 airplanes, certificated in any category.

(d) Subject

Air Transport Association (ATA) of America Code 32, Landing gear.

(e) Unsafe Condition

This AD was prompted by a report of a steering control unit (SCU) filter plate connector that does not meet the certification requirements for exposure of electronic components to high intensity radiated field environments. The FAA is issuing this AD to prevent malfunction of the nose wheel steering (NWS) system. The unsafe condition, if not addressed, could result in un-commanded steering or lateral runway excursion.

(f) Compliance

Comply with this AD within the compliance times specified, unless already done.

(g) Inspection or Records Review

Within 24 months after the effective date of this AD: Inspect the SCU to determine if SCU part number (P/N) 46000-01 with a serial number listed in Figure 1 to paragraph (g) of this AD is installed on the airplane. A review of the airplane maintenance records is acceptable in lieu of the inspection if the SCU P/N and serial number can be conclusively determined from that review. If an SCU P/N 46000-01 with a serial number listed in Figure 1 to paragraph (g) of this AD is not installed on the airplane, or if the SCU identification plate is marked with SB100-32-030, then no further action is required by this AD; however, the installation prohibition in paragraph (i) of this AD still applies.

Figure 1 to Paragraph (g)—Affected SCU Serial Numbers

(h) Replacement

For airplanes with SCU P/N 46000-01 with a serial number listed in Figure 1 to paragraph (g) of this AD installed and not marked on the SCU identification plate with SB100-32-030: Within 24 months after the effective date of this AD, replace the SCU and rig and test the NWS control, in accordance with the instructions in paragraph (h)(1), (2), or (3) of this AD, as applicable.

(1) For airplane serial numbers 20001 through 20500 inclusive: Steps 2.C.(1) and 2.C.(3) of Section 2.C., “Part B—Modification,” and Section 2.D., “Testing,” of the Accomplishment Instructions in Bombardier Service Bulletin 100-32-34, dated October 18, 2021.

(2) For airplane serial numbers 20501 through 20893 inclusive: Steps 2.C.(1) and 2.C.(3) of Section 2.C., “Part B—Modification,” and Section 2.D., “Testing,” of the Accomplishment Instructions in Bombardier Service Bulletin 350-32-010, dated October 18, 2021.

(3) For airplane serial numbers 20894 and larger: A method approved by the Manager, International Validation Branch, FAA; or Transport Canada; or Bombardier, Inc.'s Transport Canada Design Approval Organization (DAO). If approved by the DAO, the approval must include the DAO-authorized signature.

(i) Parts Installation Prohibition

As of the effective date of this AD, do not install SCU P/N 46000-01 on any airplane if the serial number of the SCU is listed in figure 1 to paragraph (g) of this AD, unless the SCU identification plate has been marked with SB100-32-030.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (k)(2) of this AD. Information may be emailed to: 9-avs-nyaco-cos@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada or Bombardier, Inc.'s Transport Canada Design Approval Organization (DAO). If approved by the DAO, the approval must include the DAO-authorized signature.

(k) Additional Information

(1) Refer to Transport Canada AD CF-2023-13, dated February 24, 2023, for related information. This Transport Canada AD may be found in the AD docket at regulations.gov under Docket No. FAA-2023-2145.

(2) For more information about this AD, contact William Reisenauer, Aviation Safety Engineer, FAA, 1600 Stewart Avenue, Suite 410, Westbury, NY 11590; telephone 516-228-7301; email 9-avs-nyaco-cos@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) Bombardier Service Bulletin 100-32-34, dated October 18, 2021.

(ii) Bombardier Service Bulletin 350-32-010, dated October 18, 2021.

(3) For service information identified in this AD, contact Bombardier Business Aircraft Customer Response Center, 400 Côte-Vertu Road West, Dorval, Québec H4S 1Y9, Canada; telephone 514-855-2999; email ac.yul@aero.bombardier.com; website bombardier.com.

(4) You may view this service information at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on January 9, 2024.
Caitlin Locke,
Director, Compliance & Airworthiness Division, Aircraft Certification Service.

[FR Doc. 2024-03047 Filed 2-14-24; 8:45 am]

BILLING CODE 4910-13-P